DEPARTMENT OF DEFENSE

Office of the Secretary

[Transmittal No. 18-14]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-14 with attached Policy Justification.

Dated: July 26, 2018.
Shelly E. Finke,
Alternate OSD Federal Register Liaison Officer, Department of Defense.

BILLING CODE 5001-06-P

BILLING CODE 5001-06-C

Transmittal No. 18-14

Notice of Proposed Issuance of Letter of Offer Pursuant to Section 36(b)(1) of the Arms Export Control Act, as amended

(i) Prospective Purchaser: The Government of the Netherlands

(ii) Total Estimated Value:

Major Defense Equipment * | $ 0.5 million
Other | $109.5 million
TOTAL | $110.0 million

(iii) Description and Quantity or Quantities of Articles or Services under Consideration for

Purchase: The Government of the Netherlands has requested to buy defense articles and services in support of continuation of a Continental United States (CONUS) based Royal Netherlands Air Force F-16 Formal Training Unit.

Major Defense Equipment (MDE): Up to twenty-seven (27) GBU-12 Inert Paveway IIs

Non-MDE: Also included are PGU-27 Inert training rounds, Impulse Cartridges, MJU-7/B Flares, RR-188 Chaff, BDU-33/B and BDU-50/B training munitions, fuel and air refueling support, airlift services, base operating support, facilities, publications and technical documentation, pilot training, personnel training and training equipment, weapon system and software support, U.S. Government and contractor technical, engineering, and logistics personnel services, and other related elements of logistics and program support.

(iv) Military Department: Air Force (NE-D-NZW)

(v) Prior Related Cases, if any: NE-D-NXZ—$ 149.3 million; 19 Sep 13

(vi) Sales Commission, Fee, etc., Paid, Offered, or Agreed to be Paid: None

(vii) Sensitivity of Technology Contained in the Defense Article or Defense Services Proposed to be Sold: None

(viii) Date Report Delivered to Congress: April 24, 2018

* As defined in Section 47(6) of the Arms Export Control Act.

POLICY JUSTIFICATION

The Netherlands—F-16 Formal Training Unit at Tucson Air National Guard Base (ANGB), Arizona

The Government of the Netherlands has requested to buy defense articles and services in support of continuation of a Continental United States (CONUS) based Royal Netherlands Air Force F-16 Formal Training Unit, to include up to twenty-seven (27) GBU-12 Inert Paveway IIs. Also included are PGU-27 Inert training rounds, Impulse Cartridges, MJU-7/B Flares, RR-188 Chaff, BDU-33/B and BDU-50/B training munitions, fuel and air refueling support, airlift services, base operating support, facilities, publications and technical documentation, pilot training, personnel training and training equipment, weapon system and software support, U.S. Government and contractor technical, engineering, and logistics personnel services, and other related elements of logistics and program support. The estimated program value is $110 million.

This proposed sale will support the foreign policy and national security objectives of the United States by improving the security of a NATO Ally which is an important force for political stability and economic progress in Europe.

This potential sale will continue to improve the Royal Netherlands Air Force's (RNLAF) ability to develop mission-ready and experienced pilots to support its F-16 aircraft inventory. The well-established pilot proficiency training program at Tucson Air National Guard Base will train pilots in F-16 operations, tactics, techniques, and procedures. This training will enhance the RNLAF's ability to continue contributions to Overseas Contingency Operations and to NATO air policing operations, as well as, to possible future coalitions operations. The Netherlands will have no difficulty absorbing this training.

The proposed sale of this equipment and support will not alter the basic military balance in the region.

There is no prime contractor involved in this proposed sale. The Tucson Air National Guard will provide instruction, flight operations, and maintenance support and facilities with defense articles anticipated to come from U.S. stocks, as needed. There are no known offset agreements proposed in connection with this potential sale.

Implementation of this proposed sale will not require the assignment of any additional U.S. Government personnel or contractor representatives to the Netherlands.

There will be no adverse impact on U.S. defense readiness as a result of this proposed sale.

[FR Doc. 2018-16317 Filed 7-30-18; 8:45 am]

BILLING CODE 5001-06-P